DEPARTMENT OF THE INTERIOR

Bureau of Land Management

[LLOR912000.L63200000.DF0000.13 XL1116AF; HAG-13-0062]

Call for Nominations for the John Day-Snake Resource Advisory Council, Oregon/Washington

AGENCY: Bureau of Land Management, Interior.

ACTION: Notice.

SUMMARY: The Secretary of the Interior requests public nominations for persons to serve on the Bureau of Land Management's (BLM) Oregon/Washington John Day-Snake Resource Advisory Council (RAC). Citizens who serve on this council will provide advice and recommendations to the BLM on land use planning and management of the National System of Public Lands within their geographic areas and management options for National Landscape Conservation System sites like the Spring Basin and Badlands Wilderness Areas as well as the Lower Deschutes and John Day Wild and Scenic Rivers. The BLM will accept public nominations for 15 days after the publication of this notice.

DATES: Submit nomination packages on or before February 15, 2013.

ADDRESSES: BLM Oregon State Office; 333 SW. 1st Avenue, Portland, OR 97204. Nomination forms are also available at the BLM Prineville and Vale District Offices.

FOR FURTHER INFORMATION CONTACT: Jeff Clark, BLM Oregon State Office, 333 SW. 1st Avenue; Portland, OR 97204, or P.O. Box 2965, Portland, OR 97208; 503-808-6028 or jeffclark@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Federal Land Policy and Management Act (FLPMA) (43 U.S.C. 1739) directs the Secretary of the Interior (Secretary) to involve the public in planning and issues related to management of lands administered by the BLM. Section 309 of FLPMA directs the Secretary to establish citizen-based advisory councils that are consistent with the Federal Advisory Committee Act (FACA). As required by FACA, council membership must be balanced and representative of the various interests concerned with the management of public lands. The rules governing advisory committees are found at 43 CFR subpart 1784.

The John Day-Snake RAC seeks nominations to fill one vacancy in one category: Category Three—Representatives of State, county, or local elected office; representatives and employees of a State agency responsible for the management of natural resources; representatives of Indian tribes within or adjacent to the area for which the RAC is organized; representatives and employees of academic institutions who are involved in natural sciences; and the public-at-large.

The BLM will evaluate nominees based on their education, training, experience, and knowledge of the geographical area of the council. Nominees should demonstrate a commitment to collaborative resource decision-making. The Obama Administration prohibits individuals who are currently federally registered lobbyists to serve on all FACA and non-FACA boards, committees, or councils. All nominations must include:

(1) Letters of reference from a stakeholder in the interest area to be represented; (2) A completed background information nomination form; and (3) Other information that addresses the nominee's qualifications, subject to appropriate background investigations. The BLM Oregon State Office will issue press releases providing additional information for submitting nominations. Nominations should be sent to: Jeff Clark, BLM Oregon State Office, 333 SW. 1st Avenue, Portland, OR 97204.

Before including your address, phone number, email address, or other personal identifying information in your comment, you should be aware that your entire comment—including your personal identifying information—may be made publicly available at any time. While you can ask us in your comment to withhold your personal identifying information from public review, we cannot guarantee that we will be able to do so.

Certification Statement: I hereby certify that the BLM Advisory Councils are necessary and in the public interest in connection with the Secretary's responsibilities to manage the lands, resources, and facilities administered by the BLM.

Andrew M. Smith,
Acting Associate State Director, Oregon/Washington.

[FR Doc. 2013-02103 Filed 1-30-13; 8:45 am]

BILLING CODE 4310-33-P